DEPARTMENT OF COMMERCE

National Telecommunications and Information Administration

First Responder Network Authority Board Special Review Committee Meeting

AGENCY: National Telecommunications and Information Administration, U.S. Department of Commerce.

ACTION: Notice of Public Meeting of the First Responder Network Authority Special Review Committee.

SUMMARY: The First Responder Network Authority (FirstNet) Board Special Review Committee will hold a Special Meeting via telephone conference (teleconference) on September 12, 2013.

DATES: The Special Meeting will be held on Thursday, September 12, 2013, from 4:00 to 5:00 p.m. Eastern Daylight Time.

ADDRESSES: The Special Review Committee Meeting will be conducted via teleconference. Members of the public may listen to the meeting by dialing toll-free 1 (888) 469-3306 and using passcode “FirstNet.” Due to the limited number of ports, attendance via teleconference will be on a first-come, first-served basis.

FOR FURTHER INFORMATION CONTACT: Uzoma Onyeije, Secretary, FirstNet, U.S. Department of Commerce, 1401 Constitution Avenue NW., Washington, DC 20230: Telephone (202) 482-0016; email uzoma@firstnet.gov. Please direct media inquiries to NTIA's Office of Public Affairs, (202) 482-7002.

SUPPLEMENTARY INFORMATION: Background: The Middle Class Tax Relief and Job Creation Act of 2012 (Act), Public Law 112-96, 126 Stat. 156 (2012), created FirstNet as an independent authority within NTIA. The Act directs FirstNet to establish a single nationwide, interoperable public safety broadband network. The FirstNet Board is responsible for making strategic decisions regarding FirstNet's operations.

On April 23, 2013, at a regularly scheduled FirstNet Board meeting, Sheriff Paul Fitzgerald made a motion that the Board adopt a resolution expressing concerns about FirstNet's operations. During the meeting, Sheriff Fitzgerald's motion was tabled by a vote of the Board and FirstNet Chairman Samuel Ginn requested a review of the matter. On May 8, 2013, the FirstNet Board established the Special Review Committee to look at FirstNet's compliance with applicable federal hiring and procurement rules, conflict of interest rules and open meeting requirements.

The Special Review Committee, through this Notice, provides at least two days' notice of its meeting to be held on September 12, 2013. The Special Review Committee may, by a majority vote, close a portion of the meeting as necessary to preserve the confidentiality of commercial or financial information that is privileged or confidential, to discuss personnel matters, or to discuss legal matters affecting FirstNet, including pending or potential litigation. See 47 U.S.C. 1424(e)(2).

Matters to Be Considered: NTIA will post an agenda for the Special Review Committee Meeting on its Web site at http://www.ntia.doc.gov/category/firstnet prior to the meeting. The agenda topics are subject to change.

Time and Date: The Special Review Committee Meeting will be held on September 12, 2013, from 4:00 to 5:00 p.m. Eastern Daylight Time. The times and dates are subject to change. Please refer to NTIA's Web site at http://www.ntia.doc.gov/category/firstnet for the most up-to-date information.

Other Information: The teleconference for the Special Review Committee Meeting is open to the public. On the date and time of the Special Meeting, members of the public may call toll-free 1 (888) 469-3306 and use passcode “FirstNet” to listen to the meeting. If you experience technical difficulty, please contact Helen Shaw by telephone (202) 482-1157; or via email hshaw@ntia.doc.gov. Public access will be limited to listen-only. Due to the limited number of ports, attendance via teleconference will be on a first-come, first-served basis.

The Special Review Committee Meeting is accessible to people with disabilities. Individuals requiring accommodations are asked to notify Mr. Onyeije, by telephone (202) 482-0016 or email uzoma@firstnet.gov, at least two days (2) business days before the meeting.

Records: NTIA maintains records of all Board proceedings. Board minutes will be available at http://www.ntia.doc.gov/category/firstnet.

Dated: September 4, 2013.
Kathy D. Smith,
Chief Counsel.

[FR Doc. 2013-21865 Filed 9-6-13; 8:45 am]

BILLING CODE 3510-60-P